DEPARTMENT OF AGRICULTURE

Rural Business-Cooperative Service

[Docket No. RBS-23-Business-0018]

Notice of Request for Approval of a New Information Collection

AGENCY: Rural Housing Service, and Rural Business-Cooperative Service, USDA.

ACTION: Notice and request for comments.

SUMMARY: In accordance with the Paperwork Reduction Act of 1995, this notice announces the intention of the Rural Business-Cooperative Service, and Rural Housing Service, agencies of the Rural Development mission area within the U.S. Department of Agriculture (USDA), hereinafter collectively referred to as the Agency to request approval for a new information collection in support of compliance with applicable acts for planning and performing construction and other development work.

DATES: Comments on this notice must be received by September 11, 2023.

ADDRESSES: Comments may be submitted by the following method:

• Federal eRulemaking Portal: This website provides the ability to type short comments directly into the comment field on this web page or attach a file for lengthier comments. Go to https://www.regulations.gov. Follow the on-line instructions at that site for submitting comments.

FOR FURTHER INFORMATION CONTACT: Lynn Gilbert, Rural Development Innovation Center—Regulations Management Division, USDA, 1400 Independence Avenue SW, South Building, Washington, DC 20250-1522. Telephone: (202) 690-2682. Email lynn.gilbert@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that Rural Development is submitting to OMB for a new collection.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to https://www.regulations.gov and, in the lower “Search Regulations and Federal Actions” box, select “RBS” from the agency drop-down menu, then click on “Submit.” In the Docket ID column, select RBS-23-Business-0018 to submit or view public comments and to view supporting and related materials available electronically. Information on using Regulations.gov, including instructions for accessing documents, submitting comments, and viewing the docket after the close of the comment period, is available through the site's “User Tips” link.

Title: 7 CFR 1980—Common Forms Package for Guaranteed Loan Forms.

OMB Number: 0570-New.

Expiration Date of Approval: Three years from approval date.

Type of Request: New information collection.

Abstract: The information collection under OMB Number 0575-New will enable the Agencies to effectively administer the policies, methods, and responsibilities for the funding and transmittal of post-award Federal funding for approved programs and projects.

The purpose of this information collection is to obtain information necessary to efficiently set up a functional system for the transmittal of payments after an applicant has been awarded funding.

Information for the RD forms and their usage in this collection package are included in this supporting statement.

Information will be collected by the field offices from applicants, consultants, lenders, and public entities. The collection of information is considered the minimum necessary to effectively evaluate the overall scope of the project.

Failure to collect information could have an adverse impact on effectively carrying out the mission, administration, processing, and program requirements.

Estimate of Burden: RD is requesting approval for one respondent and a one-hour place holder in order for OMB to issue a control number for these forms. The burden for each of the forms will be accounted for within the individual Rural Development program collection packages using the form(s).

Respondents: Respondents for this data are lending institutions and for-profit businesses but also include individuals and corporations.

Estimated Number of Responses per Respondent per Form in package:

Form No. | Responses per respondent
1980-19 | 1
1980-41 | 1
1980-43 | 1
1980-44 | 1

All responses to this notice will be summarized and included in the request for OMB approval. All comments will become a matter of public record.

Karama Neal,
Administrator, Rural Business-Cooperative Service.

[FR Doc. 2023-14827 Filed 7-12-23; 8:45 am]

BILLING CODE 3410-XY-P